DEPARTMENT OF DEFENSE

GENERAL SERVICES ADMINISTRATION

NATIONAL AERONAUTICS AND SPACE ADMINISTRATION

48 CFR Chapter 1

[Docket FAR 2010-0076, Sequence 10]

Federal Acquisition Regulation; Federal Acquisition Circular 2005-48; Introduction

AGENCY: Department of Defense (DoD), General Services Administration (GSA), and National Aeronautics and Space Administration (NASA).

ACTION: Summary presentation of rules.

SUMMARY: This document summarizes the Federal Acquisition Regulation (FAR) rules agreed to by DOD, GSA, and NASA in this Federal Acquisition Circular (FAC) 2005-48. A companion document, the Small Entity Compliance Guide (SECG), follows this FAC. The FAC, including the SECG, is available via the Internet at http://www.regulations.gov.

DATES: For effective dates see separate documents, which follow.

FOR FURTHER INFORMATION CONTACT: The analyst whose name appears in the table below in relation to each FAR case. Please cite FAC 2005-48 and the specific FAR case numbers. For information pertaining to status or publication schedules, contact the Regulatory Secretariat at (202) 501-4755.

List of Rules in FAC 2005-48
Item | Subject | FAR Case | Analyst
I | Repeal of the Small Business Competitiveness Demonstration Program | 2011-005 | Morgan.
II | Personal Identity Verification of Contractor Personnel | 2009-027 | Jackson.
III | Terminating Contracts | 2009-031 | Parnell.
IV | Payrolls and Basic Records | 2009-018 | McFadden.

SUPPLEMENTARY INFORMATION: Summaries for each FAR rule follow. For the actual revisions and/or amendments made by these FAR cases, refer to the specific item number and subject set forth in the documents following these item summaries. FAC 2005-48 amends the FAR as specified below:

Item I—Repeal of the Small Business Competitiveness Demonstration Program (FAR Case 2011-005)

This final rule amends the FAR to remove FAR subpart 19.10, Small Business Competitiveness Demonstration Program. This change is necessary to address the requirements of section 1335 of the Small Business Jobs Act of 2010 (Pub. L. 111-240) which repealed the Small Business Competitiveness Demonstration Program.

This final rule also removes the following clauses: FAR 52.219-19, Small Business Concern Representation for the Small Business Competitiveness Demonstration Program; FAR 52.219-20, Notice of Emerging Small Business Set-Aside; and FAR 52.219-21, Small Business Size Representation for Targeted Industry Categories under the Small Business Competitiveness Demonstration Program.

Item II—Personal Identity Verification of Contractor Personnel (FAR Case 2009-027)

This final rule amends the FAR to provide additional regulatory coverage in subpart 4.13 and in FAR clause 52.204-9 to reinforce the requirement of collecting from contractors all forms of Government-provided identification once they are no longer needed to support a contract. The contracting officer may delay final payment under a contract if the contractor fails to comply with these requirements.

Item III— Terminating Contracts (FAR Case 2009-031)

This final rule amends the FAR to clarify procedures regarding the applicability of FAR part 49, Termination of Contracts, to commercial item contracts. Minor changes are made to the proposed rule published in the Federal Register at 75 FR 28228 on May 20, 2010.

The rule specifically impacts contracting officers and contractors by clarifying that FAR part 49 does not apply to the acquisition of commercial items when using procedures at FAR part 12. The rule does not have a significant economic impact on small entities because the rule does not impose any additional requirements on small businesses.

Item IV— Payrolls and Basic Records (FAR Case 2009-018)

This rule adopts as final, with a minor change, the interim rule published in the Federal Register at 75 FR 34286 on June 16, 2010. The interim rule amended the FAR at 52.222-8, Payrolls and Basic Records to delete the requirement for submission of full social security numbers and home addresses of individual workers on weekly payroll transmittals by prime contractors. The rule requires contractors and subcontractors to maintain the full social security number and current address of each covered worker, and provide them upon request to the contracting officer, the contractor, or the Wage and Hour Division of the Department of Labor for purposes of an investigation or audit of compliance with prevailing wage requirements. The rule recognizes the Department of Labor's finding that complete social security numbers and home addresses for individual workers are personal information to the worker and that any unnecessary disclosure and submittal of such information creates an exposure to identity theft and the invasion of privacy for workers.

Dated: December 22, 2010.

Millisa Gary,

Acting Director, Federal Acquisition Policy Division.

Federal Acquisition Circular

Federal Acquisition Circular (FAC) 2005-48 is issued under the authority of the Secretary of Defense, the Administrator of General Services, and the Administrator for the National Aeronautics and Space Administration.

Unless otherwise specified, all Federal Acquisition Regulation (FAR) and other directive material contained in FAC 2005-48 is effective December 30, 2010, except for Items I, II, and III which are effective January 31, 2011.

Dated: December 22, 2010.
Shay D. Assad,
Director, Defense Procurement and Acquisition Policy.
Dated: December 22, 2010.
Joseph A. Neurauter,
Deputy Associate Administrator and Senior Procurement Executive, Office of General Services Acquisition Policy, Integrity, and Workforce, U.S. General Services Administration.
Dated: December 21, 2010.
Sheryl J. Goddard,
Acting Assistant Administrator for Procurement, National Aeronautics and Space Administration.

[FR Doc. 2010-32901 Filed 12-29-10; 8:45 am]

BILLING CODE 6820-EP-P